DEPARTMENT OF COMMERCE

International Trade Administration

Beauty and Cosmetics Trade Mission to India; Application Deadline Extended and Acceptance To Participate Changed to First-Come First-Serve Basis

AGENCY: International Trade Administration, Department of Commerce.

ACTION: Notice.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows.

The application deadline has been extended to October 1, 2010. The U.S. Department of Commerce will review all applications on a first-come, first-serve basis. We will inform applicants of selection decisions as soon as possible after receiving their applications. Applications received after the deadline will be considered only if space and scheduling constraints permit.

Contacts

U.S. Commercial Service Domestic Contact:

Lisa Huot, 202-482-2796, Lisa.Huot @trade.gov.

Leticia Arias, (310) 235-7204, Leticia.Arias@trade.gov.

U.S. Commercial Service in India:

Aliasgar.Motiwala, Commercial Specialist, Mumbai, Tel: (91-22) 2265 2511, E-mail: Aliasgar.Motiwala@mail.doc.gov.

Manjushree Phookan, Commercial Specialist, Bangalore, Tel: (91-80) 2220 6404, E-mail: Manjushree.Phookan@mail.doc.gov.

Srimoti Mukherji, Commercial Specialist, New Delhi, Tel: (91-11) 2347 2226, E-mail: Srimoti.Mukherji@mail.doc.gov.

Lisa Huot,
Global Trade Programs, Commercial Service Trade Missions Program.

[FR Doc. 2010-23030 Filed 9-15-10; 8:45 am]

BILLING CODE P